DEPARTMENT OF COMMERCE

Foreign-Trade Zones Board

[Order No. 1372]

Grant of Authority for Subzone Status; Tumi, Inc. (Luggage), Vidalia, GA

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Savannah Airport Commission, grantee of Foreign-Trade Zone 104, has made application to the Board for authority to establish special-purpose subzone at the luggage warehousing and distribution facility of Tumi, Inc., located in Vidalia, Georgia (FTZ Docket 26-2004, filed 6/16/04, as amended 8/12/04);

Whereas, notice inviting public comment was given in the Federal Register (69 FR 34993, 6/23/04 and 69 FR 51630, 8/20/04); and,

Whereas, the Board adopts the findings and recommendations of the examiner's report, and finds that the requirements of the FTZ Act and the Board's regulations are satisfied, and that approval of the application, as amended, is in the public interest;

Now, therefore, the Board hereby grants authority for subzone status at the luggage distribution facility of Tumi, Inc., located in Vidalia, Georgia (Subzone 104D), at the location described in the application, and subject to the FTZ Act and the Board's regulations, including § 400.28.

Signed in Washington, DC, this 9th day of February, 2005.
Joseph A. Spetrini,
Acting Assistant Secretary of Commerce for Import Administration, Alternate Chairman, Foreign-Trade Zones Board.
Attest:
Dennis Puccinelli,
Executive Secretary.

[FR Doc. 05-3808 Filed 2-25-05; 8:45 am]

BILLING CODE 3510-DS-P